COMMITTEE FOR PURCHASE FROM PEOPLE WHO ARE BLIND OR SEVERELY DISABLED

Procurement List Proposed Additions and Deletions

AGENCY: Committee for Purchase From People Who Are Blind or Severely Disabled.

ACTION: Proposed additions to and deletions from Procurement List.

SUMMARY: The Committee is proposing to add to the Procurement List services to be furnished by the nonprofit agencies employing persons who are blind or have other severe disabilities, and to delete products and services previously furnished by such agencies.

Comments Must be Received on or Before: December 7, 2009.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for the services will be required to provide the services listed below from the nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List to be performed by the nonprofit agencies listed:

Services

Service Type/Location: Janitorial Services, Jamestown Service Center, 8430 Country Club Street, Jamestown, ND.

NPA: Alpha Opportunities, Inc., Jamestown, ND.

Contracting Activity: Department Of Energy, Headquarters Procurement Services, Washington, DC.

Service Type/Location: Parts Machining Service, 515 N. 51st Ave #130, Phoenix, AZ.

NPA: Arizona Industries for the Blind, Phoenix, AZ.

Contracting Activity: Defense Logistics Agency, Defense Supply Center Philadelphia, Philadelphia, PA.

Service Type/Location: Parts Machining Service, 5316 West State Street, Milwaukee, WI.

NPA: Wiscraft Inc.—Wisconsin Enterprises for the Blind, Milwaukee, WI.

Contracting Activity: Defense Logistics Agency, Defense Supply Center Philadelphia, Philadelphia, PA.

Service Type/Location: Parts Machining Service, 2601 South Plum, Seattle, WA.

NPA: The Lighthouse for the Blind, Inc. (Seattle Lighthouse), Seattle, WA.

Contracting Activity: Defense Logistics Agency, Defense Supply Center Philadelphia, Philadelphia, PA.

Service Type/Location: Custodial Services, Forest Service Santa Lucia Ranger District, 1616 Carlotti Drive, Santa Maria, CA.

NPA: VTC Enterprises, Santa Maria, CA.

Contracting Activity: Department Of Agriculture, Forest Service, Angeles National Forest, Arcadia, CA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Candle, Illuminating

NSN: 6260-00-161-4296.

NPA: Concho Resource Center, San Angelo, TX.

Contracting Activity: GSA/FAS Southwest Supply Center (QSDAC), Fort Worth, TX.

Line, Tent, Manila

NSN: 8340-00-252-2269.

NPA: ASPIRO, Inc., Green Bay, WI.

Contracting Activity: Defense Supply Center Philadelphia, Philadelphia, PA.

Services

Service Type/Location: Janitorial/Custodial, U.S. Army Reserve Center: OMS, RD 8 Box 282 A, Kittanning, PA.

NPA: Rehabilitation Center and Workshop, Inc., Greensburg, PA.

Contracting Activity: Dept of the Army, XR W6BA ACA Army Reserve CONT CTR, FT Dix, NJ.

Service Type/Location: Janitorial/Custodial, Internal Revenue Service, 11631 Caroline Road, Philadelphia, PA.

NPA: A.C.E. Industries, Inc., Exton, PA.

Contracting Activity: Dept of Treas, Internal Revenue Service, Ofc of Procurement Operations, Oxon Hill, MD.

Service Type/Location: Janitorial/Custodial, Willow Grove Naval Air Station, Willow Grove, PA.

NPA: A.C.E. Industries, Inc., Exton, PA.

Contracting Activity: Dept of the Navy, U.S. Fleet Forces Command, Norfolk, VA.

Barry S. Lineback,
Director, Business Operations.

[FR Doc. E9-26757 Filed 11-5-09; 8:45 am]

BILLING CODE 6353-01-P